DEPARTMENT OF TRANSPORTATION

Pipeline and Hazardous Materials Safety Administration

[Docket No. PHMSA-2010-0042]

Pipeline Safety: Request for Special Permit

AGENCY: Pipeline and Hazardous Materials Safety Administration (PHMSA); DOT.

ACTION: Notice.

SUMMARY: Pursuant to the Federal Pipeline Safety Laws, PHMSA is publishing this notice of a special permit request we have received from Dominion Transmission, Inc., a natural gas pipeline operator, seeking relief from compliance with certain requirements in the Federal Pipeline Safety Regulations. This notice seeks public comments on this request, including comments on any safety or environmental impacts. At the conclusion of the 30-day comment period, PHMSA will evaluate the request and determine whether to grant or deny a special permit.

DATES: Submit any comments regarding this special permit request by August 25, 2010.

ADDRESSES: Comments should reference the docket number for this specific special permit request and may be submitted in the following ways:

• E-Gov Web Site: http://www.Regulations.gov. This site allows the public to enter comments on any Federal Register notice issued by any agency.

• Fax: 1-202-493-2251.

• Mail: Docket Management System: U.S. Department of Transportation (DOT), Docket Operations, M-30, West Building Ground Floor, Room W12-140, 1200 New Jersey Avenue, SE., Washington, DC 20590.

• Hand Delivery: DOT Docket Management System: U.S. Department of Transportation, Docket Operations, M-30, West Building Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Dana Register by telephone at 202-366-0490; or, e-mail at dana.register@dot.gov.

Technical: Joshua Johnson by telephone at 816-329-3825; or, e-mail at joshua.johnson@dot.gov.

SUPPLEMENTARY INFORMATION: PHMSA has received this request for a special permit from Dominion Transmission Inc., seeking relief from compliance with certain pipeline safety regulations. Dominion's request includes a technical analysis. This request can be found at Regulations.gov under docket number PHMSA-2010-0121. We invite interested persons to participate by reviewing this special permit request at http://www.Regulations.gov, and by submitting written comments, data or other views. Please include any comments on potential environmental impacts that may result if this special permit is granted.

Before acting on this special permit request, PHMSA will evaluate all comments received on or before the comments closing date. Comments will be evaluated after this date if it is possible to do so without incurring additional expense or delay. PHMSA will consider each relevant comment we receive in making our decision to grant or deny a request.

PHMSA has received the following special permit request:

Docket No. | Requester | Regulation | Nature of special permit
PHMSA-2010-0121 | Dominion Transmission Incorporated (DTI) | 49 CFR 192.611 | To authorize DTI to engage in an alternative approach to conduct risk control activities based on Integrity Management Program principles rather than lowering the MAOP or replacing the subject pipe segment. This application is for one segment of the DTI Line TL-465 in Prince William County, Virginia. This segment has changed from a Class 1 location to a Class 3 location due to an expanded housing development. The pipeline is 24-inches in diameter and has a MAOP of 1,250 psig. The segment that has changed Class Location is 3,478 feet in length and is located at MP 1085+81 ft. to MP 1,120+59 ft.

Authority: 49 U.S.C. 60118(c)(1) and 49 CFR 1.53.

Issued in Washington, DC, on July 16, 2010.
Linda Daugherty,
Deputy Associate Administrator for Policy and Programs.

[FR Doc. 2010-18238 Filed 7-23-10; 8:45 am]

BILLING CODE 4910-60-P